DEPARTMENT OF ENERGY

Environmental Management Advisory Board

AGENCY: Department of Energy.

ACTION: Notice of open meeting.

SUMMARY: This notice announces a meeting of the Environmental Management Advisory Board (EMAB). The Federal Advisory Committee Act (Pub. L. No. 92-463, 86 Stat. 770) requires that public notice of this meeting be announced in the Federal Register.

DATES: Thursday, September 25, 2008, 8:30 a.m.-5:30 p.m.

ADDRESSES: The Millennium Hotel Cincinnati, 150 West Fifth Street, Cincinnati, Ohio 45202-2393.

FOR FURTHER INFORMATION CONTACT: Terri Lamb, Designated Federal Officer, Environmental Management Advisory Board (EM-13), U.S. Department of Energy, 1000 Independence Avenue, SW., Washington, DC 20585. Phone (202) 586-9007; fax (202) 586-0293 or e-mail: terri.lamb@em.doe.gov.

SUPPLEMENTARY INFORMATION:

Purpose of the Board: The purpose of the Board is to provide the Assistant Secretary for Environmental Management with advice and recommendations on corporate issues confronting the Environmental Management Program. The Board will contribute to the effective operation of the Environmental Management Program by providing individual citizens and representatives of interested groups an opportunity to present their views on issues facing the Office of Environmental Management and by helping to secure consensus recommendations on those issues.

Tentative Agenda

• EM Consolidated Business Center.

• EM Program Update.

• EM Strategic Planning.

• EM Human Capital Initiatives.

• Acquisition and Project Management.

• EM Communications.

• Board Business and Subcommittee Reports.

Public Participation: The meeting is open to the public. Written statements may be filed either before or after the meeting with the Designated Federal Officer, Terri Lamb, at the address or telephone listed above. Individuals who wish to make oral statements pertaining to agenda items should also contact Terri Lamb. Requests must be received five days prior to the meeting and reasonable provision will be made to include the presentation in the agenda. The Designated Federal Officer is empowered to conduct the meeting in a fashion that will facilitate the orderly conduct of business. Individuals wishing to make public comment will be provided a maximum of five minutes to present their comments.

Minutes: Minutes will be available by writing or calling Terri Lamb at the address or phone number listed above. Minutes will also be available at the following Web site http://www.em.doe.gov/stakepages/emabmeetings.aspx.

Issued at Washington, DC on August 26, 2008.
Rachel Samuel,
Deputy Committee Management Officer.

[FR Doc. E8-20121 Filed 8-28-08; 8:45 am]

BILLING CODE 6450-01-P